DEPARTMENT OF ENERGY

Federal Energy Regulatory Commission

Combined Notice of Filings #1

Take notice that the Commission received the following exempt wholesale generator filings:

Docket Numbers: EG20-86-000.

Applicants: Tejas Power Generation, LLC.

Description: Notice of Self-Certification of Exempt Wholesale Generator Status of Tejas Power Generation, LLC.

Filed Date: 2/28/20.

Accession Number: 20200228-5245.

Comments Due: 5 p.m. ET 3/20/20.

Take notice that the Commission received the following electric rate filings:

Docket Numbers: ER10-1852-035.

Applicants: Florida Power & Light Company.

Description: Notification of Change in Status Out of Time of Florida Power & Light Company.

Filed Date: 2/27/20.

Accession Number: 20200227-5297.

Comments Due: 5 p.m. ET 3/19/20.

Docket Numbers: ER17-802-008.

Applicants: Exelon Generation Company, LLC.

Description: Compliance filing: Reactive Service Rate Schedule Compliance Filing to be effective 9/20/2019.

Filed Date: 2/28/20.

Accession Number: 20200228-5111.

Comments Due: 5 p.m. ET 3/20/20.

Docket Numbers: ER17-802-009.

Applicants: Exelon Generation Company, LLC.

Description: Compliance filing: Reactive Service Rate-Schedule Compliance Filing to be effective 12/17/2019.

Filed Date: 2/28/20.

Accession Number: 20200228-5112.

Comments Due: 5 p.m. ET 3/20/20.

Docket Numbers: ER20-1106-000.

Applicants: Missisquoi, LLC.

Description: § 205(d) Rate Filing: Missisquoi Change In Status to be effective 2/27/2020.

Filed Date: 2/27/20.

Accession Number: 20200227-5224.

Comments Due: 5 p.m. ET 3/19/20.

Docket Numbers: ER20-1107-000.

Applicants: Midcontinent Independent System Operator, Inc., ITC Midwest LLC.

Description: § 205(d) Rate Filing: 2020-02-27_SA 2945 ITC-IPL 1st Rev FSA (J233 J514) to be effective 2/28/2020.

Filed Date: 2/27/20.

Accession Number: 20200227-5241.

Comments Due: 5 p.m. ET 3/19/20.

Docket Numbers: ER20-1108-000.

Applicants: Midcontinent Independent System Operator, Inc., Ameren Illinois Company.

Description: § 205(d) Rate Filing: 2020-02-28_SA 2037 Ameren-Wabash Valley (Citizens) 4th Rev WDS Agreement to be effective 3/1/2020.

Filed Date: 2/28/20.

Accession Number: 20200228-5019.

Comments Due: 5 p.m. ET 3/20/20.

Docket Numbers: ER20-1109-000.

Applicants: Midcontinent Independent System Operator, Inc., Ameren Illinois Company.

Description: § 205(d) Rate Filing: 2020-02-28_SA 3028 Ameren IL-Prairie Power Project#21 Buckley to be effective 4/29/2020.

Filed Date: 2/28/20.

Accession Number: 20200228-5038.

Comments Due: 5 p.m. ET 3/20/20.

Docket Numbers: ER20-1110-000.

Applicants: Southwest Power Pool, Inc.

Description: § 205(d) Rate Filing: 1067R10 East Texas Electric Cooperative NITSA and NOA to be effective 2/1/2020.

Filed Date: 2/28/20.

Accession Number: 20200228-5050.

Comments Due: 5 p.m. ET 3/20/20.

Docket Numbers: ER20-1111-000.

Applicants: Southwest Power Pool, Inc.

Description: § 205(d) Rate Filing: 3434R2 East Texas Electric Cooperative NITSA and NOA to be effective 2/1/2020.

Filed Date: 2/28/20.

Accession Number: 20200228-5064.

Comments Due: 5 p.m. ET 3/20/20.

Docket Numbers: ER20-1112-000.

Applicants: Allegheny Energy Supply Company, LLC.

Description: Tariff Cancellation: Rate schedule 2 cancel to be effective 1/30/2020.

Filed Date: 2/28/20.

Accession Number: 20200228-5088.

Comments Due: 5 p.m. ET 3/20/20.

Docket Numbers: ER20-1113-000.

Applicants: Southwest Power Pool, Inc.

Description: § 205(d) Rate Filing: 3616 Iron Star Wind Project/ITC Great Plains E&P Agr Cancel to be effective 1/30/2020.

Filed Date: 2/28/20.

Accession Number: 20200228-5101.

Comments Due: 5 p.m. ET 3/20/20.

Docket Numbers: ER20-1114-000.

Applicants: Alabama Power Company.

Description: § 205(d) Rate Filing: PowerSouth A&R NITSA Amendment Filing (Add CAEC-Evergreen DP & Harris Resource) to be effective 1/28/2020.

Filed Date: 2/28/20.

Accession Number: 20200228-5106.

Comments Due: 5 p.m. ET 3/20/20.

Docket Numbers: ER20-1116-000.

Applicants: Midcontinent Independent System Operator, Inc.

Description: § 205(d) Rate Filing: 2020-02-28_SA 3425 Entergy Arkansas-West Memphis Solar GIA (J934) to be effective 2/13/2020.

Filed Date: 2/28/20.

Accession Number: 20200228-5184.

Comments Due: 5 p.m. ET 3/20/20.

Docket Numbers: ER20-1117-000.

Applicants: Midcontinent Independent System Operator, Inc., Ameren Illinois Company.

Description: § 205(d) Rate Filing: 2020-02-28_SA 3028 Ameren IL-Prairie Power Project#22 Jamesburg to be effective 4/29/2020.

Filed Date: 2/28/20.

Accession Number: 20200228-5187.

Comments Due: 5 p.m. ET 3/20/20.

Docket Numbers: ER20-1118-000.

Applicants: Midcontinent Independent System Operator, Inc.

Description: § 205(d) Rate Filing: 2020-02-28_SA 4030 GridLiance Heartland LLC Att KK-1 Reliability Coordination to be effective 3/1/2020.

Filed Date: 2/28/20.

Accession Number: 20200228-5189.

Comments Due: 5 p.m. ET 3/20/20.

Docket Numbers: ER20-1119-000.

Applicants: Midcontinent Independent System Operator, Inc.

Description: § 205(d) Rate Filing: 2020-02-28_GridLiance Attachment VV Filing to be effective 3/1/2020.

Filed Date: 2/28/20.

Accession Number: 20200228-5193.

Comments Due: 5 p.m. ET 3/20/20.

Docket Numbers: ER20-1120-000.

Applicants: Paper Birch Energy, LLC.

Description: Baseline eTariff Filing: MBR Application to be effective 4/29/2020.

Filed Date: 2/28/20.

Accession Number: 20200228-5196.

Comments Due: 5 p.m. ET 3/20/20.

Docket Numbers: ER20-1122-000.

Applicants: Idaho Power Company.

Description: Tariff Cancellation: Cancel SA 344 to be effective 2/28/2020.

Filed Date: 2/28/20.

Accession Number: 20200228-5227.

Comments Due: 5 p.m. ET 3/20/20.

Docket Numbers: ER20-1123-000.

Applicants: Georgia Power Company.

Description: § 205(d) Rate Filing: SR Snipesville Affected System Construction Agreement Filing to be effective 1/22/2020.

Filed Date: 2/28/20.

Accession Number: 20200228-5259.

Comments Due: 5 p.m. ET 3/20/20.

Docket Numbers: ER20-1124-000.

Applicants: Georgia Power Company.

Description: § 205(d) Rate Filing: SR Baxley Affected System Construction Agreement Filing to be effective 1/21/2020.

Filed Date: 2/28/20.

Accession Number: 20200228-5264.

Comments Due: 5 p.m. ET 3/20/20.

Docket Numbers: ER20-1125-000.

Applicants: Midcontinent Independent System Operator, Inc., Ameren Illinois Company.

Description: § 205(d) Rate Filing: 2020-02-28_SA 3028 Ameren IL-Prairie Power Project#18 Disco to be effective 4/29/2020.

Filed Date: 2/28/20.

Accession Number: 20200228-5277.

Comments Due: 5 p.m. ET 3/20/20.

Docket Numbers: ER20-1126-000.

Applicants: Idaho Power Company.

Description: Tariff Cancellation: Cancellation of SA 345 to be effective 3/1/2020.

Filed Date: 2/28/20.

Accession Number: 20200228-5282.

Comments Due: 5 p.m. ET 3/20/20.

Docket Numbers: ER20-1127-000.

Applicants: GridLiance Heartland LLC.

Description: Tariff Cancellation: GLH OATT TSA Termination Agreement to be effective 12/31/9998.

Filed Date: 2/28/20.

Accession Number: 20200228-5290.

Comments Due: 5 p.m. ET 3/20/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 28, 2020.
Kimberly D. Bose,
Secretary.

[FR Doc. 2020-04520 Filed 3-4-20; 8:45 am]

BILLING CODE 6717-01-P